DEPARTMENT OF EDUCATION

Office of Indian Education, Overview Information; Demonstration Grants for Indian Children; Notice Inviting Applications for New Discretionary Program Awards for Fiscal Year (FY) 2004

Catalog of Federal Domestic Assistance (CFDA) Number: 84.299A.

DATES: Applications Available: March 3, 2004.

Deadline for Transmittal of Applications: April 2, 2004.

Deadline for Intergovernmental Review: June 1, 2004.

Eligible Applicants: Eligible applicants for this program include a State educational agency (SEA); a local educational agency (LEA); an Indian tribe; an Indian organization; a federally supported elementary or secondary school for Indian students; an Indian institution, including an Indian institution of higher education; or a consortium of such institutions that meet the requirements of 34 CFR 75.127 through 75.129. An application from a consortium of eligible entities must meet the requirements of 34 CFR 75.127 through 75.129. The consortium agreement, signed by all parties, must be submitted with the application in order to be considered as a consortium application. Letters of support do not meet the consortium requirements. The Secretary will reject any application that does not meet these requirements.

Estimated Available Funds: $4,527,754.

Estimated Range of Awards: $150,000 to $400,000.

Estimated Average Size of Awards: $323,411.

Maximum Award: We will reject any application that proposes a budget exceeding $400,000 for a single budget period of 12 months. The Deputy Under Secretary may change the maximum amount through a notice published in the Federal Register.

Estimated Number of Awards: 14.

Note: The Department is not bound by any estimates in this notice.

Project Period: Up to 36 months.

Full Text of Announcement

I. Funding Opportunity Description

Purpose of Program: The purpose of the Demonstration Grants for Indian Children program is to provide financial assistance to projects to develop, test, and demonstrate the effectiveness of services and programs to improve the educational opportunities and achievement of preschool, elementary, and secondary Indian students. To meet the purposes of the No Child Left Behind Act of 2001, this program will focus project services on increasing school readiness skills of three- and four-year-old American Indian and Alaska Native children; and enabling American Indian and Alaska Native high school graduates to transition successfully to postsecondary education by increasing their competency and skills in challenging subject matter, including mathematics and science.

Priorities: In accordance with 34 CFR 75.105(b)(2)(ii), these absolute priorities are from the regulations for this program (34 CFR 263.21(c)(1) and (3)).

Absolute Priorities: For FY 2004 these priorities are absolute priorities. Under 34 CFR 75.105(c)(3), we consider only applications that meet one or both of these priorities. These priorities are:

Absolute Priority 1. School readiness projects that provide age appropriate educational programs and language skills to three- and four-year-old Indian students to prepare them for successful entry into school at the kindergarten level.

Absolute Priority 2. College preparatory programs for secondary school students designed to increase competency and skills in challenging subject matter, including mathematics and science, to enable Indian students to transition successfully to postsecondary education.

Competitive Preference Priorities: Within the absolute priorities, we give competitive preference to applicants that address the following priorities.

Competitive Preference Priority 1. In accordance with 34 CFR 75.105(b)(2)(iv), this priority is from section 7121 of the Elementary and Secondary Education Act of 1965, as amended (ESEA), 20 U.S.C. 7441(d)(1)(B).Five (5) competitive preference priority points will be awarded to an application that presents a plan for combining two or more of the activities described in section 7121(c) of the ESEA over a period of more than one year.

Competitive Preference Priority 2. In accordance with 34 CFR 75.105(b)(2)(iv), this priority is from section 7143 of the ESEA, 20 U.S.C. 7473. Five (5) competitive preference priority points will be awarded to an application submitted by an Indian tribe, Indian organization, or Indian institution of higher education, including a consortium of any of these entities with other eligible entities. An application from a consortium of eligible entities that meets the requirements of 34 CFR 75.127 through 75.129 and includes an Indian tribe, Indian organization, or Indian institution of higher education will be considered eligible to receive the five (5) priority points.

These competitive preference points are in addition to the five competitive preference points that may be given under Competitive Preference Priority 1.

Note: The consortium agreement, signed by all parties, must be submitted with the application in order to be considered a consortium application. Letters of support do not meet the consortium requirements. The Secretary will reject any application that does not meet these requirements.

Note: The term “Indian institutions of higher education” means an accredited college or university within the United States cited in section 532 of the Equity in Educational Land-Grant Status Act of 1994 (7 U.S.C. 301 note), any other institution that qualifies for funding under the Tribally Controlled College or University Assistance Act of 1978 (25 U.S.C. 1801 et seq.), and Dine College (formerly Navajo Community College), authorized in the Navajo Community College Act (25 U.S.C. 640a et seq.).

Program Authority: 20 U.S.C. 7441.

Applicable Regulations: (a) The Education Department General Administrative Regulations (EDGAR) in 34 CFR parts 74, 75, 77, 79, 80, 81, 82, 84, 85, 86, 97, 98, and 99; and (b) 34 CFR part 263.

Note: The regulations in 34 CFR part 79 apply to all applicants except federally recognized Indian tribes.

Note: The regulations in 34 CFR part 86 apply to institutions of higher education only.

II. Award Information

Type of Award: Discretionary grants.

Estimated Available Funds: $4,527,754.

Estimated Range of Awards: $150,000 to $400,000.

Estimated Average Size of Awards: $323,411.

Maximum Award: We will reject any application that proposes a budget exceeding $400,000 for a single budget period of 12 months. The Deputy Under Secretary may change the maximum amount through a notice published in the Federal Register.

Estimated Number of Awards: 14.

Note: The Department is not bound by any estimates in this notice.

Project Period: Up to 36 months.

III. Eligibility Information

1. Eligible Applicants: Eligible applicants for this program include a SEA; a LEA; an Indian tribe; an Indian organization; a federally supported elementary or secondary school for Indian students; an Indian institution, including an Indian institution of higher education; or a consortium of such institutions that meets the requirements of 34 CFR 75.127 through 75.129. An application from a consortium of eligible entities must meet the requirements of 34 CFR 75.127 through 75.129. The consortium agreement, signed by all parties, must be submitted with the application in order to be considered as a consortium application. Letters of support do not meet the consortium requirements. The Secretary will reject any application that does not meet these requirements.

2. Cost Sharing or Matching: This program does not involve cost sharing or matching.

3. Other:

(a) Indian Organization. Applicants that apply as an “Indian organization” must demonstrate in the application how they meet all criteria for this term as defined in 34 CFR 263.20 in order to be considered an eligible Indian organization.

(b) Budget Requirement. Projects funded under this competition must budget for a one-and-one-half day Project Directors' meeting in Washington, DC, during each year of the project period.

IV. Application and Submission Information

1. Address to Request Application Package: Education Publications Center (ED Pubs), PO Box 1398, Jessup, MD 20794-1398. Telephone (toll free): 1-877-433-7827. FAX (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.299A.

Individuals with disabilities may obtain this document in an alternative format (e.g., Braille, large print, audiotape, or computer diskette) by contacting the program contact person listed elsewhere in this notice under For Further Information Contact.

2. Content and Form of Application Submission: Requirements concerning the content of an application, together with the forms you must submit, are in the application package for this competition.

Page Limit: The application narrative is where you, the applicant, addresses the selection criteria reviewers use to evaluate your application. An applicant must limit the narrative to the equivalent of no more than 50 double-spaced pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

Our reviewers will not read any pages of your application that—

• Exceed the page limit if you apply these standards; or

• Exceed the equivalent of the page limit if you apply other standards.

3. Submission Dates and Times: Applications Available: March 3, 2004.

Deadline for Transmittal of Applications: April 2, 2004. The dates and times for the transmittal of applications by mail or by hand (including a courier service or commercial carrier) are in the application package for this competition. The application package also specifies the hours of operation of the e-Application Web site.

We do not consider an application that does not comply with the deadline requirements.

Deadline for Intergovernmental Review: June 1, 2004.

4. Intergovernmental Review: This program is subject to Executive Order 12372 and the regulations in 34 CFR part 79. Information about Intergovernmental Review of Federal Programs under Executive Order 12372 is in the application package for this program.

5. Funding Restrictions: We will reject any application that proposes a budget exceeding $400,000 for a single budget period of 12 months. We reference regulations outlining funding restrictions in the Applicable Regulations section of this notice.

6. Other Submission Requirements: Instructions and requirements for the transmittal of applications by mail or by hand (including a courier service or commercial carrier) are in the application package for this program.

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

We are continuing to expand our pilot project for electronic submission of applications to include additional formula grant programs and additional discretionary grant competitions. The Demonstration Grants for Indian Children program—CFDA Number 84.299A—is one of the programs included in the pilot project. If you are an applicant under the Demonstration Grants for Indian Children program, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right-hand corner of the hard copy signature page of the ED 424.

4. Fax the signed ED 424 to the Application Control Center at (202) 260-1349.

• We may request that you give us original signatures on all other forms at a later date.

Application Deadline Date Extension in Case of System Unavailability: If you elect to participate in the e-Application pilot for the Demonstration Grants for Indian Children program and you are prevented from submitting your application on the application deadline date because the e-Application system is unavailable, we will grant you an extension of one business day in order to transmit your application electronically, by mail, or by hand delivery. We will grant this extension if—

1. You are a registered user of e-Application, and have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgment of any system unavailability, you may contact either (1) the person listed elsewhere in this notice under For Further Information Contact (see VII. Agency Contact) or (2) the e-GRANTS help desk at 1-888-336-8930.

You may access the electronic grant application for the Demonstration Grants for Indian Children program at: http://e-grants.ed.gov.

V. Application Review Information

Selection Criteria: The selection criteria for this program are in the application package.

VI. Award Administration Information

1. Award Notices: If your application is successful, we notify your U.S. Representative and U.S. Senators and send you a Grant Award Notification (GAN). We may also notify you informally.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under this grant.

3. Reporting. At the end of your project period, you must submit a final performance report, including financial information, as directed by the Secretary. If you receive a multi-year award, you must submit an annual performance report that provides the most current performance and financial expenditure information as specified by the Secretary in 34 CFR 75.118.

4. Performance Measures: The Secretary has established the following key performance measures for assessing the effectiveness of the Demonstration Grants for Indian Children program: (1) Increasing percentages of pre-school American Indian and Alaska Native students will possess school readiness skills gained through a scientifically based, research-based curriculum that prepares them for kindergarten; and (2) the percentage of American Indian and Alaska Native high school graduates who increase their competency and skills in challenging subject matter, including mathematics and science, to enable successful transition to postsecondary education will increase.

Under the selection criteria “Quality of project services” and “Quality of the project evaluation,” we will consider the extent to which the applicant demonstrates a strong capacity to provide reliable data on these indicators.

All grantees will be expected to submit, as part of their performance report, information documenting their progress with regard to these performance measures.

VII. Agency Contact

For Further Information Contact: Victoria Vasques, Office of Indian Education, U.S. Department of Education, 400 Maryland Avenue, SW., room 3W205, Washington, DC 20202-6335. Telephone: (202) 260-3774 or by email: oiegrant@ed.gov.

If you use a telecommunications device for the deaf (TDD), you may call the Federal Information Relay Service (FIRS) at 1-800-877-8339.

Individuals with disabilities may obtain this document in an alternative format (e.g., Braille, large print, audiotape, or computer diskette) on request to the contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 25, 2004.
Victoria Vasques,
Deputy Under Secretary for Indian Education.

[FR Doc. 04-4555 Filed 3-1-04; 8:45 am]

BILLING CODE 4000-01-P